DEPARTMENT OF ENERGY

Federal Energy Regulatory Commission

[Docket No. RP98-53-000]

Kinder Morgan Interstate Gas Transmission, LLC; Notice of Settlement Conference

August 13, 2001.

Pursuant to Rule 601 of the Commission's Rules of Practice and Procedure,18 CFR 385.601 (2001), a settlement conference in the above docketed proceeding will be held on Wednesday, October 10 and Thursday, October 11, 2001, to address the outstanding ad valorem tax issues on the Kinder Morgan Interstate Gas Transmission, LLC system. The conference will be held in the offices of Kinder Morgan, 370 Van Gordon Street, Lakewood, Colorado, 80228. The settlement conference will begin at 10:00 a.m.

The purpose of the conference is to resolve all matters pending in the above docketed proceeding. As agreed at the July 31, 2001 settlement conference, the economic terms of the settlement will be determined at the October 10th session, and the final language of the settlement agreement, including the economic terms, will be determined at the October 11th session. All parties in the above docketed proceeding are directed to participate in both days of this settlement conference or have principals present with full and complete authority to act on all matters addressed, and approve and accept a settlement.

Steven A. Rothman is the mediator for the conference. He will be available to communicate in private with any party prior to the conference. If a party has any questions regarding the conference, please call Mr. Rothman at 202/208-2278 or send an e-mail to steven.rothman@ferc.fed.us. Parties may also communicate with Richard Miles, the Director of the Commission's Dispute Resolution Service at 1 877 FERC ADR (337-2237) or 202/208-0702 and his e-mail address is richard.miles@ferc.fed.us.

Linwood A. Watson, Jr.,
Acting Secretary.

[FR Doc. 01-20711 Filed 8-16-01; 8:45 am]

BILLING CODE 6717-01-P